DEPARTMENT OF ENERGY

Federal Energy Regulatory Commission

[Project No. 13190-000]

Ceresco Power and Light; Notice of Application for Preliminary Permit Accepted for Filing and Soliciting Comments, Motions to Intervene, and Protests

August 19, 2008.

On April 18, 2008, Ceresco Power and Light filed an application, pursuant to section 4(f) of the Federal Power Act (FPA), to study the feasibility of Ceresco Hydroelectric Project. The proposed project would be located on the Kalamazoo River in Calhoun County, Michigan. The existing Ceresco Dam is owned by the applicant. No lands of the United States are within the proposed project boundary.

The proposed project using the existing Ceresco Dam would consist of: (1) A proposed powerhouse, containing four turbine-generator units, switchgears, circuit breakers, transformers, and a control panel; (2) a proposed service building; and (3) appurtenant facilities. The proposed project would have a total installed capacity of 800 kilowatts and an average annual generation of 2.6 gigawatt-hours, to be sold to a local utility, Consumers Energy, or the City of Battle Creek, MI.

Applicant Contact: William Morris, 544 West Columbia Avenue, Suite B, Battle Creek, MI 49015, (269) 968-4242 ext. 105.

FERC Contact: Jake Tung, (202) 502-8757.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13190) in the docket number field to access the document. For assistance, call toll-free 1-866-208-3372.

Kimberly D. Bose,
Secretary.

[FR Doc. E8-19685 Filed 8-25-08; 8:45 am]

BILLING CODE 6717-01-P